DEPARTMENT OF DEFENSE

Office of the Secretary

[Transmittal Nos. 13-11]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-11 with attached transmittal, policy justification, and Sensitivity of Technology.

Dated: April 12, 2013.
Aaron Siegel,
Alternate OSD Federal Register Liaison Officer, Department of Defense.

Transmittal No. 13-11

Notice of Proposed Issuance of Letter of Offer

Pursuant to Section 36(b)(1) of the Arms Export Control Act

(i) Prospective Purchaser: Republic of Korea

(ii) Total Estimated Value:

Major Defense Equipment* | $1.167 billion
Other | $1.241 billion
TOTAL | $2.408 billion

(iii) Description and Quantity or Quantities of Articles or Services under Consideration for Purchase:

60 Active Electronically Scanned Array Radar (AESA) radar sets

60 Digital Electronic Warfare Systems (DEWS)

60 AN/AAQ-33 Sniper Targeting Systems

60 AN/AAS-42 Infrared Search and Track (IRST) Systems

69 Link-16 Terminals and spares

132 Ultra High Frequency/Very High Frequency (UHF/VHF) Secure radio with HAVE QUICK II

Also included are the Advanced Display Core Processor II, Joint Mission Planning System, various support equipment items, GEM-V GPS airborne receiver module, and communication security, software development/integration, spares and repair parts, personnel training and training equipment, publications and technical documents, U.S. Government and contract engineering and logistical personnel services, and other related elements of logistics and program support.

(iv) Military Department: Air Force (SAP)

(v) Prior Related Cases if any:

FMS Case SIR—$128M—10 Aug 02

FMS Case CAC—$3M—7 May 08

FMS Case SAB—$146M—10 Jan 08

(vi) Sales Commission Fee, etc., Paid, Offered, or Agreed to be Paid: None

(vii) Sensitivity of Technology Contained in the Defense Article or Defense Services Proposed to be Sold: See Attached Annex

(viii) Date Report Delivered to Congress: 29 March 2013

* As defined in Section 47(6) of the Arms Export Control Act.

POLICY JUSTIFICATION

Korea—F-15 Silent Eagle Aircraft

The Republic of Korea has requested a possible hybrid case in support of (60) F-15 Silent Eagle aircraft being procured via Direct Commercial Sales (DCS). The proposed sale will include 60 Active Electronically Scanned Array Radar (AESA) radar sets, 60 Digital Electronic Warfare Systems (DEWS), 60 AN/AAQ-33 Sniper Targeting Systems, 60 AN/AAS-42 Infrared Search and Track (IRST) Systems, 132 Ultra High Frequency/Very High Frequency (UHF/VHF) secure radio with HAVE QUICK II, 69 Link-16 Terminals and spares, the Advanced Display Core Processor II, Joint Mission Planning System, various support equipment items, GEM-V GPS airborne receiver module, and communication security; software development/integration, spares and repair parts, personnel training and training equipment, publications and technical documents, U.S. Government and contract engineering and logistical personnel services, and other related elements of logistics and program support. The estimated cost is $2.408 billion.

This proposed sale will contribute to the foreign policy goals and national security objectives of the United States by meeting the legitimate security and defense needs of an ally and partner nation. The Republic of Korea continues to be an important force for peace, political stability, and economic progress in North East Asia.

The proposed sale will augment Korea's operational aircraft inventory and enhance its air-to-air and air-to-ground self-defense capability, provide it with a credible defense capability to deter aggression in the region, and ensure interoperability with U.S. forces. The Republic of Korea Air Force's F-4 aircraft will be decommissioned as F-15SEs are added to the inventory. Korea will have no difficulty absorbing this additional equipment and support into its inventory.

The proposed sale of equipment and support will not negatively alter the basic military balance in the region.

Implementation of this proposed sale will require multiple trips to Korea involving U.S. Government and contractor representatives for technical reviews and support, program management, and training over a period of 15 years.

The prime contractor will be The Boeing Corporation in St Louis, Missouri. This proposal is being offered in the context of a competition. If the proposal is accepted, it is expected that offset agreements will be required.

There will be no adverse impact on U.S. defense readiness resulting from this proposed sale.

Transmittal No. 13-11

Notice of Proposed Issuance of Letter of Offer

Pursuant to Section 36(b)(1) of the Arms Export Control Act

Annex

Item No. vii

(vii) Sensitivity of Technology:

1. This Direct Commercial Sale (DCS)/Foreign Military Sale (FMS) Hybrid sale will involve the release of sensitive technology to the Republic of Korea (ROK). The F-15SE weapons system is classified up to Secret. The F-15SE aircraft (DCS) uses the F-15E airframe and features advanced avionics and other technologically sensitive systems. The F-l5SE will contain the General Electric F110-GE-129E engine (DCS), AN/APG-63(v)3 Active Electronically Scanned Array (AESA) radar (FMS), internal and external electronic warfare and self-protection equipment (FMS), Identification Friend or Foe (IFF) system (FMS), operational flight program, and software computer programs.

2. Sensitive and/or classified (up to Secret) elements of the proposed F-15SE include hardware, accessories, components, and associated software: APG-63(v)3 AESA, Digital Electronic Warfare Suite (DEWS), the AN/AAQ-33 SNIPER targeting system, Infrared Search and Track system (IRST), Link-16 Terminals, and Ultra High Frequency Very High Frequency (UHF/VHF) secure radio. Additional sensitive areas include operating manuals and maintenance technical orders containing performance information, operating and test procedures, and other information related to support operations and repair. The hardware, software, and data identified are classified to protect vulnerabilities, design and performance parameters and other similar critical information.

3. The Active Electronically Scanned Array (AESA) radar is the latest model of the F-15E radar. This model contains digital technology, including high processor and transmitter power, sensitive receiver electronics, and Synthetic Aperture Radar (SAR), which creates high resolution radar ground maps. This radar also incorporates Non Cooperative Threat Recognition (NCTR) to aid in aircraft identification. The complete hardware is classified Confidential; major components and subsystems are classified Confidential; software is classified Secret; and technical data and documentation are classified up to Secret.

4. The Digital Electronic Warfare Suite (DEWS) provides passive radar warning, wide spectrum RF jamming, and control and management of the entire EW system. It is an internally mounted suite. The commercially developed system software and hardware is Unclassified. The system is classified Secret when loaded with a U.S. derived EW database.

5. The AN/AAQ-33 SNIPER Targeting System is Unclassified but contains technology representing the latest state-of-the-art in several areas. This pod is a third generation infrared and electro-optical pod capable of full motion video downlink. Information on performance and inherent vulnerabilities is classified Secret. Software (object code) is classified Confidential. Sensitive elements include the forward looking infrared (FLIR) sensors, and Electronic Counter Countermeasures features that increase capability in a jamming environment.

6. The AN/AAS-42 Infrared Search and Track (IRST) system is a long-wave, high resolution, passive, infrared sensor system that searches and detects heat sources within its field of regard. The AN/AAS-42 is classified Confidential, components and subsystems range from Unclassified to Confidential, and technical data and other documentation are classified up to Secret.

7. Link-16 command, control, communications, and intelligence (C3I) system incorporating high capacity, jam-resistant, digital communication links for exchange of near real-time tactical information, including both data and voice, among air, ground, and sea elements.

8. The Ultra High Frequency/Very High Frequency (UHF/VHF) secure radio with HAVE QUICK II is voice communications radio system that can operate in either normal, secure, and/or jam resistant modes. It can employ cryptographic technology that is classified Secret. Classified elements include operating characteristics, parameters, technical data, and keying material.

9. If a technologically advanced adversary were to obtain knowledge of the specific hardware and software, the information could be used to develop countermeasures, which might reduce weapon system effectiveness or be used in the development of a system with similar or advanced capabilities.

[FR Doc. 2013-09096 Filed 4-17-13; 8:45 am]

BILLING CODE 5001-06-P